FEDERAL TRADE COMMISSION

Granting of Request for Early Termination of the Waiting Period Under the Premerger Notification Rules

Section 7A of the Clayton Act, 15 U.S.C. 18a, as added by Title II of the Hart-Scott Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Transaction Granted Early Termination
ET date | Trans No. | ET req status | Party name
30-JUN-10 | 201 00840 | G | Li & Fung Limited.
|  | G | Steven Kahn.
|  | G | The Max Leather Group, Inc.
|  | G | Cipriani Accessories, Inc.
|  | G | MLG (2009) Limited Liability Company.
01-JUL-10 | 20100771 | G | Apax Europe VII-B, L.P.
|  | G | Spectrum Equity Investors IV, L.P.
|  | G | NetQuote Holdings, Inc.
02-JUL-10 | 20100793 | G | Aalberts Industries N.V.
|  | G | Conbraco Industries, Inc.
|  | G | Conbraco Industries, Inc.
| 20100844 | G | Great Hill Equity Partners IV, LP.
|  | G | SterilMed Holdings, Inc.
|  | G | SterilMed Holdings, Inc.
| 20100846 | G | Ralcorp Holdings, Inc.
|  | G | American Italian Pasta Company.
|  | G | IAPC CV.
|  | G | IAPC Italia Leasing, s.r.l.
|  | G | AIPC Arizona, LLC.
|  | G | AIPC Missouri, LLC.
|  | G | AIPC South Carolina, Inc.
|  | G | AIPC Finance, Inc.
|  | G | IAPC Holding BV.
|  | G | Pasta Lensi, s.r.l.
|  | G | AIPC Sales Co.
|  | G | American Italian Pasta Company.
06-JUL-10 | 20100798 | G | Olam International Limited.
|  | G | ConAgra Foods, Inc.
|  | G | ConAgra Foods Food Ingredients Company, Inc.
| 20100848 | G | Amphenol Corporation.
|  | G | Jonathan L. Borisch.
|  | G | Borisch Manufacturing, Inc.
| 20100849 | G | Water Street Healthcare Partners II, L.P.
|  | G | MBF Healthcare Partners, L.P.
|  | G | Medical Specialties Distributors, LLC.
| 20100850 | G | International Business Machines Corporation.
|  | G | Coremetrics, Inc.
|  | G | Coremetrics, Inc.
| 20100855 | G | Irving Place Capital Partners III, L.P.
|  | G | Geoffrey Titherington.
|  | G | Mold-Rite Plastics, LLC.
08-JUL-10 | 20100666 | G | Visa Inc.
|  | G | CyberSource Corporation.
|  | G | CyberSource Corporation.
09-JUL-10 | 20100807 | G | Caterpillar Inc.
|  | G | ElectroMotive Diesel, Inc.
|  | G | ElectroMotive Diesel, Inc.
12-JUL-10 | 20100827 | G | Providence Equity Partners VI, L.P.
|  | G | Marsh & McLennan Companies, Inc.
|  | G | Kroll Inc.
| 20100864 | G | SCF-V, L.P.
|  | G | SCF-VI, L.P.
|  | G | Subsea International Services, Inc.
|  | G | Triton Group Holdings LLC.
|  | G | Allied Production Services, Inc.
| 20100866 | G | SCF-VI, L.P.
|  | G | SCF-V, L.P.
|  | G | Forum Oilfield Technologies, Inc.
13-JUL-10 | 20100826 | G | Cardinal Health, Inc.
|  | G | Raj Mantena.
|  | G | Healthcare Solutions Holdings, LLC.
| 20100871 | G | International Business Machines Corporation.
|  | G | BigFix, Inc.
|  | G | BigFix, Inc.
| 20100875 | G | Cablevision Systems Corporation.
|  | G | Bresnan Broadband Holdings, LLC.
|  | G | Bresnan Broadband Holdings, LLC.
14-JUL-10 | 20100857 | G | Johnson & Johnson.
|  | G | Diamyd Medical AB.
|  | G | Diamyd Medical AB.
| 20100873 | G | Eli Lilly and Company.
|  | G | Alnara Pharmaceuticals, Inc.
|  | G | Alnara Pharmaceuticals, Inc.
15-JUL-10 | 20100691 | G | CenturyLink, Inc.
|  | G | Qwest Communications International Inc.
|  | G | Qwest Communications International Inc.
| 20100843 | G | Schottenstein RVI, LLC.
|  | G | Retail Ventures, Inc.
|  | G | Retail Ventures, Inc.
16-JUL-10 | 20100858 | G | Lindsay Goldberg III L.P.
|  | G | Carl C. Icahn.
|  | G | PSC Holdings, LLC.
| 20100885 | G | AEA Investors 2006 Fund L.P.
|  | G | SFMM Holdings, Inc.
|  | G | Shoes For Crews Canada Ltd.
|  | G | SFC Holdings, LLC.
|  | G | Shoes For Crews, Inc.
| 20100890 | G | Cliffs Natural Resources Inc.
|  | G | INR Energy, LLC.
|  | G | INR-1 Holdings, LLC.
19-JUL-10 | 20100883 | G | The Boeing Company.
|  | G | Argon ST, Inc.
|  | G | Argon ST, Inc.
| 20100888 | G | Genstar Capital Partners V, L.P.
|  | G | Evolution Benefits, Inc.
|  | G | Evolution Benefits, Inc.
20-JUL-10 | 20100872 | G | EMC Corporation.
|  | G | Greenplum, Inc.
|  | G | Greenpium, Inc.
| 20100881 | G | POSCO.
|  | G | Daewoo International Corporation.
|  | G | Daewoo International Corporation.
| 20100882 | G | Sanofi-Aventis.
|  | G | Metabolex, Inc.
|  | G | Metabolex, Inc.
21-JUL-10 | 20100886 | G | Wayzata Opportunities Fund, LLC.
|  | G | Entegra Power Group LLC.
|  | G | Gila River Power, L.P.
| 20100892 | G | Avon Products, Inc.
|  | G | Gerald A. Kelly, Jr. and Bonnie C. Kelly.
|  | G | Silpada Designs, Inc.
22-JUL-10 | 20100856 | G | Marfrig Alimentos S.A.
|  | G | LGB Keystone LLC.
|  | G | Keystone Foods Intermediate LLC.
| 20100863 | Y | Ocwen Financial Corporation.
|  | Y | Barclays PLC.
|  | Y | BCRE.
| 20100878 | G | Biovail Corporation.
|  | G | Valeant Pharmaceuticals International.
|  | G | Valeant Pharmaceuticals International.
| 20100880 | G | GTCR Fund IX/A, L.P.
|  | G | UCB S.A.
|  | G | UCB, Inc.
| 20100891 | G | Communications Infrastructure Investments, LLC.
|  | G | American Fiber Systems Holding Corp.
|  | G | American Fiber Systems Holding Corp.
| 20100896 | G | Roper Industries, Inc.
|  | G | ITN Holdings, LLC.
|  | G | iTradeNetwork, Inc.
23-JUL-10 | 20100868 | G | Anchorage Capital Partners Offshore, Limited.
|  | G | Hampton Roads Bankshares, Inc.
|  | G | Hampton Roads Bankshares, Inc.
| 20100895 | G | AIF VII Euro Holdings, L.P.
|  | G | Carib Holdings, Inc.
|  | G | Carib Holdings, Inc.
| 20100899 | G | Crown Castle International Corp.
|  | G | NewPath Networks, Inc.
|  | G | NewPath Networks, Inc.
| 20100903 | G | PPL Corporation.
|  | G | E. ON AG.
|  | G | E. ON U.S. LLC.
| 20100906 | G | JSC Atomredmetzoloto.
|  | G | Uranium One, Inc.
|  | G | Uranium One, Inc.
| 20100908 | G | ZM Capital, L.P.
|  | G | Alloy, Inc.
|  | G | Alloy, Inc.
| 20100916 | G | DCP Midstream Partners, L.P.
|  | G | UGI Corporation.
|  | G | Atlantic Energy, Inc.
| 20100918 | G | Bank of America Corporation.
|  | G | Sentinel Capital Partners Ill, L.P.
|  | G | Strategic Partners Holdings, Inc.

FOR FURTHER INFORMATION CONTACT:

Sandra M. Peay, Contact Representative,

Or

Renee Chapman, Contact Representative.

Federal Trade Commission, Premerger Notification Office, Bureau of Competition, Room H-303, Washington, DC 20580, (202) 326-3100.

By Direction of the Commission.
Donald S. Clark,
Secretary.

[FR Doc. 2010-19361 Filed 8-6-10; 8:45 am]

BILLING CODE 6750-01-M